DEPARTMENT OF JUSTICE

Notice of Availability; Service Contract Inventory

AGENCY: Justice Management Division, Department of Justice.

ACTION: Notice of availability.

SUMMARY: The Justice Management Division (JMD), Department of Justice (DOJ) is publishing this notice to advise the public of the availability of its FY 2021 Service Contracts Inventory and Inventory Supplement.

ADDRESSES: https://www.justice.gov/jmd/service-contract-inventory.

FOR FURTHER INFORMATION CONTACT: Tara M. Jamison, Office of Acquisition Management, Justice Management Division, U.S. Department of Justice, Washington, DC 20530; Phone: 202-616-3754; Email: Tara.Jamison@usdoj.gov.

SUPPLEMENTARY INFORMATION: The inventory includes service contract actions over $25,000 that were awarded in fiscal year (FY) 2020. Additionally, the inventory supplement includes information collected from contractors on the amount invoiced and direct labor hours expended for covered service contracts. The Department of Justice analyzes this data for the purpose of determining whether its contract labor is being used in an effective and appropriate manner and if the mix of federal employees and contractors in the agency is effectively balanced. The inventory and supplement do not include contractor proprietary or sensitive information.

Authority: Section 743 of Division C of the FY 2010 Consolidated Appropriations Act, Pub. L. 111-117.

Dated: October 27, 2023.
Darwin Arceo,
Department Clearance Officer for PRA, U.S. Department of Justice.

[FR Doc. 2023-24164 Filed 11-1-23; 8:45 am]

BILLING CODE 4410-02-P